DEPARTMENT OF TRANSPORTATION

Federal Aviation Administration

14 CFR Part 71

[Docket No. FAA-2007-28477; Airspace Docket No. 07-ASW-4]

RIN 2120-AA66

Revision of Area Navigation Route Q-22; South Central United States

AGENCY: Federal Aviation Administration (FAA), DOT.

ACTION: Final rule.

SUMMARY: This action revises area navigation (RNAV) route Q-22 over the South Central United States by changing a waypoint name to eliminate confusion with similar sounding waypoints in close proximity to each other. The FAA is taking this action to enhance safety and to improve the efficient use of the navigable airspace.

DATES: Effective Date: 0901 UTC, August 30, 2007. The Director of the Federal Register approves this incorporation by reference action under 1 CFR part 51, subject to the annual revision of FAA Order 7400.9 and publication of conforming amendments.

FOR FURTHER INFORMATION CONTACT: Steve Rohring, Airspace and Rules Group, Office of System Operations Airspace and AIM, Federal Aviation Administration, 800 Independence Avenue, SW., Washington, DC 20591; telephone: (202) 267-8783.

SUPPLEMENTARY INFORMATION:

Background

On December 15, 2005, the FAA published in the Federal Register a final rule to establish three RNAV routes (Q-20, Q-22, and Q-24) over the Southwestern and South Central United States in support of the High Altitude Redesign program (70 FR 74197). Subsequent to the establishment of Q-22, it was determined that the waypoint, RUBAE, sounded similar to another existing waypoint in the area. To eliminate confusion that may result from similar sounding waypoints, the FAA is taking action by changing the waypoint name “RUBAE” to “ACMES.”

High Altitude RNAV routes are published in paragraph 2006 of FAA Order 7400.9P, dated September 1, 2006 and effective September 15, 2006, which is incorporated by reference in 14 CFR 71.1. The high altitude RNAV routes listed in this document will be published subsequently in the Order.

The Rule

This action amends Title 14 Code of Federal Regulations (14 CFR) part 71 by revising RNAV route Q-22 over the South Central United States within the airspace assigned to the Fort Worth Air Route Traffic Control Center (ARTCC). The FAA believes that this action will enhance safety for en route instrument flight rules operations within the Fort Worth ARTCC's areas of responsibility. This action merely changes a waypoint name in the legal description and makes no geographical changes to Q-22. Therefore, notice and public procedure under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with Paragraphs 311(a) and 311(g) of FAA Order 1050.1E, Environmental Impacts: Policies and Procedures. This airspace action is not expected to cause any potentially significant impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9P, Airspace Designations and Reporting Points, dated September 1, 2006 and effective September 15, 2006, is amended as follows:

Paragraph 2006 Area Navigation Routes.

* * * * *

Q-22 GUSTI to CATLN [Revised]
GUSTI | FIX | (Lat. 29°58′15″ N., long. 092°54′35″ W.)
OYSTY | FIX | (Lat. 30°28′15″ N., long. 090°11′49″ W.)
ACMES | WP | (Lat. 30°55′27″ N., long. 088°22′11″ W.)
CATLN | FIX | (Lat. 31°18′26″ N., long. 087°34′48″ W.)

* * * * *

Issued in Washington, DC, on June 21, 2007.
Edith V. Parish,
Manager, Airspace and Rules Group.

[FR Doc. E7-12683 Filed 7-2-07; 8:45 am]

BILLING CODE 4910-13-P